DEPARTMENT OF ENERGY

Federal Energy Regulatory Commission

Combined Notice of Filings #2

Take notice that the Commission received the following electric rate filings:

Docket Numbers: ER13-481-000.

Applicants: PJM Interconnection, L.L.C.

Description: PJM Interconnection, L.L.C. submits tariff filing per 35.13(a)(2)(iii: Revisions to the PJM OATT & OA re Day-ahead and Balancing Operating Reserves to be effective 12/1/2012.

Filed Date: 11/30/12.

Accession Number: 20121130-5343.

Comments Due: 5 p.m. ET 12/14/12.

Docket Numbers: ER13-482-000.

Applicants: Pacific Gas and Electric Company.

Description: Pacific Gas and Electric Company submits tariff filing per 35.13(a)(2)(iii: Western IA November 2012 Biannual Filing to be effective 2/1/2013.

Filed Date: 11/30/12.

Accession Number: 20121130-5389.

Comments Due: 5 p.m. ET 12/21/12.

Docket Numbers: ER13-483-000.

Applicants: Pacific Gas and Electric Company.

Description: Pacific Gas and Electric Company submits tariff filing per 35.13(a)(2)(iii: Western WDT November 2012 Biannual Filing to be effective 2/1/2013.

Filed Date: 11/30/12.

Accession Number: 20121130-5392.

Comments Due: 5 p.m. ET 12/21/12.

Docket Numbers: ER13-484-000.

Applicants: PJM Interconnection, L.L.C.

Description: PJM Interconnection, L.L.C. submits tariff filing per 35.13(a)(2)(iii: Revisions to PJM's OATT Attachments O & P re Insurance Provisions Pro Forma ISA to be effective 1/30/2013.

Filed Date: 11/30/12.

Accession Number: 20121130-5393.

Comments Due: 5 p.m. ET 12/21/12.

Docket Numbers: ER13-485-000.

Applicants: PJM Interconnection, L.L.C.

Description: PJM Interconnection, L.L.C. submits tariff filing per 35.13(a)(2)(iii: PJM Queue Nos. T167/Y1-048/Y1-066; First Revised SA 2442 to be effective 10/31/2012.

Filed Date: 11/30/12.

Accession Number: 20121130-5394.

Comments Due: 5 p.m. ET 12/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2012.
Nathaniel J. Davis, Sr.,
Deputy Secretary.

[FR Doc. 2012-29582 Filed 12-6-12; 8:45 am]

BILLING CODE 6717-01-P